DEPARTMENT OF THE INTERIOR

Bureau of Land Management

[MT-060-1020-PG]

Central Montana Resource Advisory Council Meeting

AGENCY: Bureau of Land Management, Lewistown Field Office, Interior.

ACTION: Notice of meeting.

SUMMARY: The Central Montana Resource Advisory Council will meet May 1 and 2, 2002, at the Stage Stop Inn, in Choteau, Montana.

The May 1st, 2002, meeting will begin at 1 p.m. with a 30-minute public comment period. The council will then hear briefings and consider reports from council members and BLM staff concerning BLM's core team structure for preparing a resource management plan; council subgroup recommendations; energy developments along the Rocky Mountain front; an energy policy update; and the Macum Environmental Assessment update. This meeting is scheduled to adjourn at 5 p.m.

The May 2nd, 2002, meeting will begin at 8 a.m. with a 30-minute public comment period. The group will then consider field manager issues; rights-of-ways and easements across public lands; budget information; an update concerning ferry crossings on the Upper Missouri River; the draft sage grouse conservation plan; and the potential impact of swift fox management. The council will then move into several administrative topics (meeting critique, travel vouchers, next meeting location-topics-logistics-etc.). This meeting is scheduled to adjourn at 3:30 p.m.

DATES: May 1 and 2, 2002.

Location: Stage Stop Inn, Choteau, Montana.

FOR FURTHER INFORMATION CONTACT: Malta Field Manager, Malta Field Office, 501 South 2nd Street East, Malta, Montana 59538.

SUPPLEMENTARY INFORMATION: These meetings are open to the public and there will be a public comment period at the beginning of each meeting; as detailed above.

David L. Mari,
Field Manager.

[FR Doc. 02-8238 Filed 4-8-02; 8:45 am]

BILLING CODE 4310-$$-P